FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on proposed information collections. In accordance with the Paperwork Reduction Act of 1995 (44 U.S.C. 3506(c)(2)(A)), this notice seeks comments concerning information required by FEMA to amend National Flood Insurance Program Maps to remove certain single-lot property from the one-percent annual chance floodplain.

SUPPLEMENTARY INFORMATION: With the passage of the Flood Disaster Protection Act of 1973, an owner of a structure, with a federally backed mortgage, located in the one-percent annual chance (base) floodplain, was required to purchase federal flood insurance. This was in response to the escalating damage caused by flooding and the unavailability of flood insurance from commercial insurance companies. As part of this effort, FEMA mapped the one-percent annual chance floodplain in communities. However, due to scale limitations, individual structures that may be above the base flood cannot be shown as being out of the one-percent annual chance floodplain. FEMA will issue a single-lot Letter of Map Amendment (LOMA) to waive the Federal requirement for flood insurance when data is submitted to show that the single-lot structure is above the base flood.

Collection of Information

Title: Application Form For Single Residential Lot or Structure Amendments to National Flood Insurance Program Maps.

Type of Information Collection: Revision of a currently approved collection.

OMB Number: 3067-0257.

Form Numbers: FEMA Forms 81-92, Application Form for Single Residential Lot or Structure Amendments to National Flood Insurance Program Maps and FEMA Form 81-92A (Spanish Version).

Abstract: FEMA Form 81-92 is designed to assist requesters in gathering information that FEMA needs to determine whether a certain single-lot property or structure is likely to be flooded during the flood event that has a one-percent annual chance of being equaled or exceeded in any given year (base flood). FEMA Form 81-92A is a Spanish version of FEMA Form 81-92 and, as such, only one of the two forms would be required for any one application.

Estimated Total Annual Burden Hours:

FEMA forms | Number of respondents (A) | Frequency of response (B) | Hours per response (C) | Annual Burden hours (A × B × C)
81-92 | 7,875 | Annual | 2.4 | 18,900
81-92A | 1,125 | Annual | 2.4 | 2,700
Total | 9,000 |  | 2.4 | 21,600

Estimated Cost: Cost to respondents is estimated at $50.00 per hour, per respondent for a total of $1,080,000 annually. The cost to the Federal Government is estimated to be $2,500,000 annually.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Submit comments by January 25, 2002.

ADDRESSES: Interested persons should submit written comments to Muriel B. Anderson, Chief, Records Management Section, Program Services and Systems Branch, Facilities Management and Division, Administration and Resource Planning Directorate, Federal Emergency Management Agency, 500 C Street, SW., Room 316, Washington, DC 20472. We encourage you to submit comments either by fax—(202) 646-3347—or by e-mail—muriel.anderson@fema.gov.

FOR FURTHER INFORMATION CONTACT: Contact Cecelia Lynch, Program Specialist, Federal Insurance and Mitigation Administration at (202) 646-7045 for additional information about this proposed collection of information. Contact Ms. Anderson at (202) 646-2625 for copies of the proposed OMB clearance package.

Dated: November 15, 2001.
Muriel B. Anderson,
Acting Branch Chief, Program Services and Systems Branch, Facilities Management and Services Division, Administration and Resource Planning Directorate.

[FR Doc. 01-29320 Filed 11-23-01; 8:45 am]

BILLING CODE 6718-01-P